DEPARTMENT OF COMMERCE

National Oceanic and Atmospheric Administration

RIN 0648-XH87

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Scientific and Statistical Committee (SSC), Standard Operating, Policy and Procedure (SOPPs) Committee, Advisory Panel Selection Committee (Closed Session), Ecosystem-based Management Committee, Shrimp Committee, Spiny Lobster Committee, Limited Access Privilege (LAP) Program Committee, Allocation Committee, SSC Selection Committee (Closed Session), Southeast Data, Assessment, and Review (SEDAR) Committee, Snapper Grouper Committee, Snapper Grouper Advisory Panel, and a meeting of the full Council. The Council will also hold a public comment session regarding Amendment 15B to the Snapper Grouper Fishery Management Plan (FMP) addressing the sale of bag limit snapper grouper species, methods to reduce the effects of incidental hooking on sea turtles and smalltooth sawfish, commercial permit renewal periods and transferability requirements, implementation of a plan to monitor and access bycatch, establishment of reference points, such as Maximum Sustainable Yield (MSY) and Optimum Yield (OY) for golden tilefish, and establishment of allocations for snowy grouper and red porgy. In addition, the Council will hold a public comment session regarding Amendment 16 to the Snapper Grouper FMP addressing measures to end overfishing for gag grouper and vermilion snapper and interim allocations of these two species for commercial and recreational fisheries. The Council will also hold a public comment for emergency or interim measures to address overfishing of red snapper if the Council proposes such. A presentation on the Lenfest Ocean Report regarding Annual Catch Limits will be given as part of the Council meeting. See SUPPLEMENTARY INFORMATION for additional details.

DATES: The meetings will be held in June 2008. See SUPPLEMENTARY INFORMATION for specific dates and times.

ADDRESSES: The meetings will be held at the Renaissance Orlando Airport Hotel, 5445 Forbes Place, Orlando, FL, 32812; telephone: (1-800) 228-9290 or (407) 240-1000. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Scientific and Statistical Committee Meeting: June 8, 2008, 3 p.m. until 6 p.m.; June 9, 2008 from 8 a.m. until 6 p.m., and June 10, 2008 from 8 a.m. until 5 p.m (Concurrent Sessions)

The Scientific and Statistical Committee will review and provide recommendations for the Council's Fishery Ecosystem Plan (FEP) and the Comprehensive Ecosystem Amendment (CEA). The FEP will act as a source document for subsequent CEAs to various species-based management plans. The first CEA updates existing Essential Fish Habitat (EFH) and Habitat Areas of Particular Concern (HAPC) information to address the EFH Final Rule and to meet the 5-year review required by the Magnuson-Stevens Act, and addresses the designation of deepwater coral HAPCs.

The SSC will also review and provide recommendations for Amendment 7 to the Shrimp FMP addressing rock shrimp endorsement requirements for the South Atlantic, the Shrimp Review Panel Report addressing the status of pink shrimp, and the multi-council Spiny Lobster Import Amendment. In addition, the SSC will review and provide recommendations regarding Snapper Grouper Amendment 15B (bag limit sales and other measures), Snapper Grouper Amendment 16 (measures to end overfishing for gag grouper and vermilion snapper), Snapper Grouper Amendment 17 (addressing overfishing levels and Allowable Biological Catch recommendations), SEDAR assessments on red snapper, greater amberjack, and mutton snapper, and Snapper Grouper Amendment 18 addressing overfishing for red snapper.

2. SOPPs Committee Meeting: June 9, 2008, 1 p.m. until 2 p.m.

The SOPPs Committee will receive an update on the review of the Council's SOPPs by the Secretary of Commerce and develop changes if necessary.

3. Advisory Panel Selection Committee Meeting (Closed Session): June 9, 2008, 2 p.m. until 3 p.m.

The Advisory Panel Selection Committee will meet in Closed Session to review applications and develop recommendations for appointment.

4. Ecosystem-based Management Committee Meeting: June 9, 2008, 3 p.m. until 6 p.m. and June 10, 2008 from 8 a.m. until 10:30 a.m.

The Ecosystem-based Management Committee will review comments received during public hearings and from the SSC regarding the Fishery Ecosystem Plan and the Comprehensive Ecosystem Amendment, and modify as necessary.

Note: From 6 p.m. until 7 p.m. on June 9, 2008, a presentation will be given on the Lenfest Ocean Program Report regarding Annual Catch Limits.

5. Shrimp Committee Meeting: June 10, 2008, 10:30 a.m. until 12 noon

The Shrimp Committee will review the Shrimp Review Panel report regarding pink shrimp overfishing and take action as appropriate. The Committee will also receive a report regarding the economic impacts associated with Amendment 7 to the Shrimp FMP.

6. Spiny Lobster Committee Meeting: June 10, 2008, 1:30 p.m. until 3 p.m.

The Spiny Lobster Committee will review a three-Council amendment to address management issues regarding the import of spiny lobster. The Caribbean Fishery Management Council has administrative lead for this amendment. The Committee will review and approve the amendment for public hearings and develop a public hearing schedule. The Committee will also receive a report on the status of State of Florida actions on spiny lobster, and develop a timeline for the next amendment to the Spiny Lobster FMP.

7. LAP Program Committee: June 10, 2008, 3 p.m. until 4 p.m.

The LAP Program Committee will review the results of staff contacts with golden tilefish fishermen relative to the development of a LAP Program and provide guidance to staff. The Committee will also receive a presentation of a proposal for a Property Rights Based Management Program and discuss outreach activities for LAP Programs.

8. Allocation Committee Meeting: June 10, 2008, 4 p.m. until 6 p.m.

The Allocation Committee will receive a presentation on the Atlantic Coastal Cooperative Statistics Program (ACCSP), review a list of alternatives for allocations, and provide guidance to staff.

9. Snapper Grouper Advisory Panel Meeting: June 11, 2008, 8 a.m. until 6 p.m. (Concurrent Session)

The Council's Snapper Grouper Advisory Panel (AP) will receive a presentation of analysis of new data on economic impacts regarding the bag limit sales of snapper grouper species as outlined in Snapper Grouper Amendment 15B. The AP will then review and provide comment on Amendment 15B, Amendment 16 addressing overfishing for gag grouper and vermilion snapper, and Amendment 17 addressing Annual Catch Limits and other management issues. The AP will then join the Snapper Grouper Committee meeting to hear presentations on SEDAR and the report from the SSC. In addition, the AP will review and comment on Amendment 18 addressing overfishing for red snapper, receive a presentation on the results of the LAP Program consultation with golden tilefish fishermen and AP comments, and receive a presentation for a proposal for a Property Rights Based Management Program.

10. SSC Selection Committee Meeting (Closed Session): June 11, 2008, 8 a.m. until 10 a.m.

The SSC Selection Committee will meet in Closed Session to review the results of recent SSC appointments and modify as necessary. The Committee will also make appointments to Technical Committees.

11. SEDAR Committee Meeting: June 11, 2008, 10 a.m. until 12 noon

The SEDAR Committee will review recommendations from the SEDAR Steering Committee and take action as necessary. The Committee will also approve the Terms of Reference and schedule SEARs 18 and 19.

12. Snapper Grouper Committee Meeting: June 11, 2008, 1:30 p.m. until 6:00 p.m. and June 12, 2008, 8 a.m. until 3:30 p.m.

The Snapper Grouper Committee will receive presentations on SEDAR assessment results for red snapper, greater amberjack, and mutton snapper, and a presentation on a Snapper Grouper Catch Characterization Study. The Committee will receive an SSC report on SEDAR assessments, and Snapper Grouper Amendments 15B, 16 and 17. In addition, the Committee will receive presentations on Oculina monitoring updates, a Pre-Amendment 14 (marine protected areas) Survey, and review the Gray's Reef National Marine Sanctuary research area and spearfishing request. The Committee will receive a presentation on new data regarding the economic impacts of bag limit sales as addressed in Amendment 15B, review comments received on Amendment 15B, review the document, make modifications if necessary, and recommend approval for formal review by the Secretary of Commerce. For Amendment 16, the Committee will review comments, review the document, modify if necessary, and if no significant changes are made, recommend approval for formal review by the Secretary of Commerce.

The Committee will also receive an overview of the Amendment 17 options paper, review a summary of AP comments, and provide direction to staff for options to be developed. The Committee will review comments regarding Amendment 18 and consider emergency or interim measures from red snapper. The Committee will provide direction to staff for options to be developed for Amendment 18.

13. Council Session: June 12, 2008, 4 p.m. until 6:30 p.m. and June 13, 2008, 8 a.m. until 12 noon

Council Session: June 12, 2008, 4 p.m. until 6:30 p.m.

4 p.m. - 4:15 p.m., The Council will call the meeting to order, adopt the agenda, and approve the March 2008 meeting minutes.

4:15 p.m., Public Comment Session: the Council will take public comment on Amendment 15B to the Snapper Grouper FMP. Immediately following, the Council will take public comment on Amendment 16 to the Snapper Grouper FMP. Immediately following, the Council will take public comment on any proposed emergency actions or interim rule measures for red snapper to end overfishing.

4:15 p.m. - 5:30 p.m., The Council will hear a report from the Snapper Grouper Committee. The Council will consider recommendations and approve Amendment 15B and Amendment 16 for submission to the Secretary of Commerce, and consider other Committee recommendations and take action as appropriate.

5:30 p.m. - 6:30 p.m., The Council will receive a Highly Migratory Species (HMS) briefing on the proposed rule for authorizing the use of green-stick gear, update on the HMS FMP Amendment 2 regarding sharks, and the status of the Florida east coast experimental longling fishery.

Council Session: June 13, 2008, 8 a.m. until 12 noon

8 a.m. - 8:15 a.m., The Council will receive a report from the SOPPs Committee, consider recommendations, and take action as appropriate.

8:15 a.m. - 8:30 a.m., The Council will receive a report from the AP Selection Committee, consider recommendations, and appoint new AP members as necessary.

8:30 a.m. - 8:45 a.m., The Council will receive a report from the Ecosystem-Based Management Committee, consider recommendations, and take action as appropriate.

8:45 a.m. - 9 a.m., The Council will receive a report from the Shrimp Committee, consider recommendations, and take action as appropriate.

9 a.m. - 9:15 a.m., The Council will receive a report from the Spiny Lobster Committee, consider recommendations, and take action as appropriate.

9:15 a.m. - 9:30 a.m., The Council will receive a report from the LAP Program Committee, consider recommendations, and take action as appropriate.

9:30 a.m. - 9:45 a.m., The Council will receive a report from the Allocation Committee, consider recommendations, and take action as appropriate.

9:45 a.m. - 10 a.m., The Council will receive a report from the SSC Selection Committee, consider recommendations, and take action as appropriate.

10 a.m. - 10:15 a.m., The Council will receive a report from the SEDAR Committee, consider recommendations, and take action as appropriate.

10:15 a.m. - 10:30 a.m., The Council will review and develop recommendations on Experimental Fishing Permits as necessary.

10:30 a.m. - 12 noon, The Council will receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 6, 2008.

Dated: May 9, 2008.
Tracey L. Thompson,
Acting Director, Office of Sustainable Fisheries, National Marine Fisheries Service.

[FR Doc. E8-10717 Filed 5-13-08; 8:45 am]

BILLING CODE 3510-22-S